DEPARTMENT OF COMMERCE

International Trade Administration

[A-570-919]

Electrolytic Manganese Dioxide From the People's Republic of China: Preliminary Results of Antidumping Duty Administrative Review; 2021-2022

AGENCY: Enforcement and Compliance, International Trade Administration, Department of Commerce.

SUMMARY: In response to requests from interested parties, the U.S. Department of Commerce (Commerce) is conducting an administrative review of the antidumping duty (AD) order on electrolytic manganese dioxide (EMD) from the People's Republic of China (China) covering the period of review (POR) October 1, 2021, through September 30, 2022. Commerce preliminarily determines that Duracell (China) Limited (DCL), an exporter of EMD from China and the sole mandatory respondent, is not eligible for a separate rate and is part of the China-wide entity. Interested parties are invited to comment on these preliminary results.

DATES: Applicable October 18, 2023.

FOR FURTHER INFORMATION CONTACT: Krisha Hill or Luke Caruso, AD/CVD Operations, Office IV, Enforcement and Compliance, International Trade Administration, Department of Commerce, 1401 Constitution Avenue NW, Washington, DC 20230; telephone: (202) 482-4037 or (202) 482-2081, respectively.

SUPPLEMENTARY INFORMATION:

Background

On October 3, 2022, Commerce published in the Federal Register a notice of opportunity to request an administrative review of the AD order on EMD from China.¹ On October 31, 2022, DCL requested a review of itself; no other parties requested an administrative review.² After receiving the review request,³ Commerce published the notice of initiation of this administrative review on December 5, 2022.⁴ On December 8, 2022, we issued the initial questionnaire to DCL.⁵ On June 30, 2023, DCL announced the withdrawal of its entry of appearance (EOA) and administrative protective order (APO) application.⁶ On July 3, 2023, Commerce requested clarification from DCL on whether DCL's withdrawal of its EOA and APO application reflected its intent to cease participating in this review, which DCL confirmed affirmatively on the same day.⁷ On August 15, 2023, Borman Specialty Materials and Vibrantz Specialty Products LLC (the petitioners) submitted pre-preliminary comments.⁸

¹ See Antidumping or Countervailing Duty Order, Finding, or Suspended Investigation; Opportunity To Request Administrative Review and Join Annual Inquiry Service List, 87 FR 59775 (October 3, 2022).

² See DCL's Letter, “Electrolytic Manganese Dioxide from the People's Republic of China: Request for Administrative Review,” dated October 31, 2022.

³ Id.

⁴ See Initiation of Antidumping and Countervailing Duty Administrative Reviews, 87 FR 74404 (December 5, 2022) (Initiation Notice).

⁵ See Commerce's Letter, “Administrative Review of the Antidumping Duty Order on Electrolytic Manganese Dioxide (EMD) from the People's Republic of China (China): Request for Information,” dated December 8, 2022.

⁶ See DCL's Letter, “Electrolytic Manganese Dioxide from the People's Republic of China: Withdrawal of DCL's Entry of Appearance and APO Application,” dated June 30, 2023.

⁷ See Memorandum, “Voicemail Messages,” dated July 7, 2023.

⁸ See Petitioners' Letter, “Electrolytic Manganese Dioxide from the People's Republic of China: Borman's and Vibrantz's Comments in Advance of Commerce's Preliminary Results,” dated August 15, 2023.

Scope of the Order ⁹

⁹ See Antidumping Duty Order: Electrolytic Manganese Dioxide From the People's Republic of China, 73 FR 58537 (October 7, 2008) (Order).

The merchandise covered by the Order includes all manganese dioxide (MnO2) that has been manufactured in an electrolysis process, whether in powder, chip, or plate form. Excluded from the scope are natural manganese dioxide (NMD) and chemical manganese dioxide (CMD). The merchandise subject to the Order is classified in the Harmonized Tariff Schedule of the United States (HTSUS) at subheading 2820.10.00.00. While the HTSUS subheading is provided for convenience and customs purposes, the written description of the scope of the Order is dispositive.

Methodology

Commerce is conducting this review in accordance with section 751(a)(1)(B) of the Tariff Act of 1930, as amended (the Act), and 19 CFR 351.213.

Separate Rate

In the Initiation Notice, we informed parties that all firms for which a non-market economy review was initiated that wished to qualify for separate rate status must complete, as appropriate, either a separate rate application or a separate rate certification.¹⁰ We also informed parties that firms that submitted a separate rate application or a separate rate certification that are subsequently selected as mandatory respondents, would not be eligible for separate rate status unless they responded to all parts of the AD questionnaire that Commerce issued to them as mandatory respondents.¹¹ After DCL submitted a separate rate application,¹² Commerce selected DCL as the sole mandatory respondent in this review. DCL's announcement that it was no longer participating in the review prevented Commerce from requesting additional information regarding its separate rate application.¹³ Furthermore, DCL did not respond to Commerce's supplemental questionnaire.¹⁴ Consistent with Commerce's practice in such situations, as described in the Initiation Notice, and because DCL ceased responding to Commerce's request for information, Commerce has preliminarily determined that DCL did not establish its eligibility for separate rate status and is part of the China-wide entity.

¹⁰ See Initiation Notice, 87 FR at 74405-74406.

¹¹ Id.

¹² See DCL's Letter, “Electrolytic Manganese Dioxide From the People's Republic of China: DCL's Separate Rate Application,” dated February 22, 2023.

¹³ See Memorandum, “Voicemail Messages,” dated July 7, 2023.

¹⁴ See Commerce's Letter, “2021-2022 Administrative Review of the Antidumping Duty Order on Electrolytic Manganese Dioxide (EMD) from the People's Republic of China (China): Section A Supplemental Questionnaire,” dated June 29, 2023.

Commerce's policy regarding conditional review of the China-wide entity applies to this administrative review.¹⁵ Under this policy, the China-wide entity will not be under review unless a party specifically requests, or Commerce self-initiates, a review of the entity. Because no party requested a review of the China-wide entity, the entity is not under review and the weighted-average dumping margin assigned to the China-wide entity is not subject to change as a result of this review.

¹⁵ See Antidumping Proceedings: Announcement of Change in Department Practice for Respondent Selection in Antidumping Duty Proceedings and Conditional Review of the Nonmarket Economy Entity in NME Antidumping Duty Proceedings, 78 FR 65963 (November 4, 2013).

Disclosure and Public Comment

Normally, Commerce will disclose the calculations performed in connection with the preliminary results of review to parties to the proceeding in accordance with 19 CFR 351.224(b). However, as there were no preliminary margin calculations performed in the instant review, there are no calculations to disclose. This satisfies our regulatory obligation. Additionally, we note that, given that the analysis underlying Commerce's preliminary decisions is contained herein, no decision memorandum accompanies this Federal Register notice.

Interested parties are invited to comment on these preliminary results of review. Pursuant to 19 CFR 351.309(c)(1)(ii), interested parties may submit case briefs and rebuttal briefs no later than 30 days after the date of publication of this notice in the Federal Register. Parties who submit case briefs or rebuttal briefs in this proceeding are encouraged to submit with each argument: (1) a statement of the issue; (2) a brief summary of the argument; and (3) a table of authorities. A table of contents, list of authorities used, and an executive summary of issues should accompany any brief submitted to Commerce. Rebuttal briefs, limited to issues raised in the case briefs, may be filed no later than seven days after the case briefs are filed.¹⁶

¹⁶ See 19 CFR 351.309(d); Temporary Rule Modifying AD/CVD Service Requirements Due to COVID-19; Extension of Effective Period, 85 FR 41363 (July 10, 2020) (Temporary Rule).

Pursuant to 19 CFR 351.310(c), interested parties who wish to request a hearing must submit a written request to the Assistant Secretary for Enforcement and Compliance within 30 days of the date of publication of this notice. Requests should contain: (1) the party's name, address, and telephone number; (2) the number of participants and whether any of those individuals is a foreign national; and (3) a list of issues parties intend to discuss. Oral arguments at the hearing will be limited to issues raised in the case and rebuttal briefs.¹⁷ If a request for a hearing is made, Commerce intends to hold the hearing at a date and time to be determined.¹⁸ Parties should confirm by telephone the date, time, and location of the hearing two days before the scheduled date.

¹⁷ See 19 CFR 351.310(c).

¹⁸ See 19 CFR 351.310(d).

All submissions to Commerce, with limited exceptions, must be filed electronically using Enforcement and Compliance's Antidumping and Countervailing Duty Centralized Electronic Service System (ACCESS) ¹⁹ and must also be served on interested parties.²⁰ An electronically filed document must be received successfully in its entirety by ACCESS, by 5:00 p.m. Eastern Time (ET) on the date that the document is due. Note that Commerce has temporarily modified certain of its requirements for serving documents containing business proprietary information, until further notice.²¹

¹⁹ See 19 CFR 351.303(b)(2)(i).

²⁰ See 19 CFR 351.303(f).

²¹ See Temporary Rule.

Final Results of Review

Unless otherwise extended, Commerce intends to issue the final results of this review no later than 120 days after the date these preliminary results of review are published in the Federal Register, pursuant to section 751(a)(3)(A) of the Act.

Assessment Rates

Upon issuance of the final results of this review, Commerce will determine, and U.S. Customs and Border Protection (CBP) shall assess, antidumping duties on all appropriate entries covered by this review.²² If we do not alter these preliminary results of review, we intend to instruct CBP to liquidate entries of subject merchandise exported by DCL at the China-wide rate (i.e., 149.92 percent).²³

²² See 19 CFR 351.212(b)(1).

²³ See Order, 73 FR at 58538.

Commerce intends to issue assessment instructions regarding DCL to CBP 35 days after the publication date of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for shipments of the subject merchandise from China entered, or withdrawn from warehouse, for consumption on or after the publication date, as provided by section 751(a)(2)(C) of the Act: (1) for previously investigated or reviewed Chinese and non-Chinese exporters not listed above that have separate rates, the cash deposit rate will continue to be the existing exporter-specific cash deposit rate; (2) for all Chinese exporters of subject merchandise that have not been found to be entitled to a separate rate, including DCL, the cash deposit rate will be the rate for the China-wide entity, which is 149.92 percent; and (3) for all non-Chinese exporters of subject merchandise, which have not received their own separate rate, the cash deposit rate will be the rate applicable to the Chinese exporter(s) that supplied that non-Chinese exporter. These cash deposit requirements, when imposed, shall remain in effect until further notice.

Notification to Importers

This notice also serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

This administrative review and notice are issued and published in accordance with sections 751(a)(1) and 777(i)(1) of the Act, 19 CFR 351.213, and 19 CFR 351.221(b)(4).

Dated: October 12, 2023.
Lisa W. Wang,
Assistant Secretary for Enforcement and Compliance.

[FR Doc. 2023-23004 Filed 10-17-23; 8:45 am]

BILLING CODE 3510-DS-P